OFFICE OF THE UNITED STATES TRADE REPRESENTATIVE

Andean Trade Preference Act (ATPA): Notice Regarding the 2012 Annual Review

AGENCY: Office of the United States Trade Representative.

ACTION: Notice and request for petitions.

SUMMARY: This notice announces the 2012 Annual Review of the Andean Trade Preference Act (ATPA). Under this process, petitions may be filed calling for the limitation, withdrawal or suspension of ATPA or ATPDEA benefits by presenting evidence that the eligibility criteria of the program are not being met. USTR will publish a list of petitions filed in response to this announcement in the Federal Register.

DATES: The deadline for the submission of petitions for the 2012 Annual ATPA Review is 5 p.m. EDT, September 17, 2012.

ADDRESSES: Public comments should be submitted electronically to www.regulations.gov, docket number USTR-2012-0019. If you are unable to provide submissions through www.regulations.gov, please contact Bennett Harman, at (202) 395-9446 to arrange for an alternative method of transmission.

FOR FURTHER INFORMATION CONTACT: Bennett Harman, Deputy Assistant USTR for Latin America, at (202) 395-9446.

SUPPLEMENTARY INFORMATION: The ATPA, as amended by the Andean Trade Promotion and Drug Eradication Act of 2002 (ATPDEA) in the Trade Act of 2002, 19 U.S.C. 3201 et seq., provides trade benefits for eligible Andean countries. The original Act allowed only Bolivia, Ecuador, Colombia, and Peru to be considered as beneficiary countries if they met eligibility requirements laid out in 19 U.S.C. 3203(b)(6)(B).

In Proclamation 8323 of November 25, 2008, the President determined that Bolivia no longer satisfies the eligibility criteria related to counternarcotics and suspended Bolivia's status as a beneficiary country for purposes of the ATPA and ATPDEA. In a June 30, 2009 report to Congress the President did not determine that Bolivia satisfies the requirements set forth in section 203(c) of the ATPA (19 U.S.C. 3202(c)) for being designated as a beneficiary country. Therefore, as provided for in section 208(a)(3) of the Act (19 U.S.C. 3206(a)(3)), no duty free treatment or other preferential treatment extended under the ATPA remained in effect with respect to Bolivia after June 30, 2009.

Further, Section 201 of the Omnibus Trade Act of 2010 (Pub. L. 111-344), which re-authorized the ATPDEA, terminated any duty free treatment or other preferential treatment available under ATPDEA to Peru, effective December 31, 2010.

On February 12, 2011, the trade benefits conferred under the ATPDEA lapsed but were re-instated retroactively on October 21, 2011 for eligible countries (Colombia and Ecuador) via section 501 of the United States-Colombia Trade Promotion Agreement Implementation Act (CTPA) (19 U.S.C. 3805 Note). As of May 15, 2012, with the entry into force of the CTPA, only Ecuador remained eligible for benefits under the program.

Consistent with Section 3103(d) of the ATPDEA, USTR promulgated regulations (15 CFR part 2016) (68 FR 43922) regarding the review of eligibility of articles and countries for the benefits of the ATPA, as amended. The 2012 Annual ATPA Review is the eighth such review to be conducted pursuant to the ATPA review regulations. To qualify for the benefits of the ATPA and ATPDEA, each country must meet several eligibility criteria, as set forth in sections 203(c) and (d), and section 204(b)(6)(B) of the ATPA, as amended (19 U.S.C. 3202(c), (d); 19 U.S.C. 3203(b)(6)(B)), and as outlined in the Federal Register notice USTR published to request public comments regarding the designation of eligible countries as ATPDEA beneficiary countries (67 FR 53379). Under section 203(e) of the ATPA, as amended (19 U.S.C. 3202(e)), the President may withdraw or suspend the designation of any country as an ATPA or ATPDEA beneficiary country, and may also withdraw, suspend, or limit preferential treatment for any product of any such beneficiary country, if the President determines that, as a result of changed circumstances, the country is not meeting the eligibility criteria.

Notice is hereby given that, in order to be considered in the 2012 Annual ATPA Review, all petitions to withdraw or suspend the designation of a country as an ATPA or ATPDEA beneficiary country, or to withdraw, suspend, or limit application of preferential treatment to any article of any ATPA beneficiary country under the ATPA, or to any article of any ATPDEA beneficiary country under section 204(b)(1), (3), or (4) (19 U.S.C. 3202(b)(1), (3), (4)) of the ATPA, must be received by no later than 5 p.m. EDT on September 17, 2012. Petitioners should consult 15 CFR 2016.0 regarding the content of such petitions.

Public Comment Requirements for Submissions: Persons submitting written comments must do so in English and must identify (on the first page of the submission) “2012 Annual Review of the Andean Trade Preference Act.” Persons may submit public comments electronically to www.regulations.gov docket number USTR-2012-0019. In order to be assured of consideration, comments should be submitted by 5 p.m. EDT, September 17, 2012.

To submit comments via www.regulations.gov, enter docket number USTR-2012-0019 on the home page and click “search.” The site will provide a search-results page listing all documents associated with this docket. Find a reference to this notice by selecting “Notice” under “Document Type” on the left side of the search-results page, and click on the link entitled “Submit a Comment.” (For further information on using the www.regulations.gov Web site, please consult the resources provided on the Web site by clicking on “How to Use This Site” on the left side of the home page.)

The www.regulations.gov site provides the option of providing comments by filling in a “Type Comments” field, or by attaching a document using an “Upload File” field. It is expected that most comments will be provided in an attached document. If a document is attached, it is sufficient to type “see attached” in the “Type Comments” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Bennett Harman at (202) 395-9675. A non-confidential summary of the confidential information must be submitted to www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and open to public inspection.

Please do not attach separate cover letters to electronic submissions; rather, include any information that might appear in a cover letter in the comments themselves. Similarly, to the extent possible, please include any exhibits, annexes, or other attachments in the same file as the submission itself, not as separate files.

USTR strongly urges submitters to file comments through www.regulations.gov, if at all possible. Any alternative arrangements must be made with Bennett Harman in advance of transmitting a comment. Mr. Harman should be contacted at (202) 395-9446. General information concerning USTR is available at http://www.ustr.gov.

Inspection of Submissions: Submissions in response to this notice, except for information granted “business confidential” status, will be available for public viewing at http://www.regulations.gov. Such submissions may be viewed by entering the docket number USTR-2012-0019 in the search field at: http://www.regulations.gov.

Douglas Bell,
Assistant U.S. Trade Representative for Trade Policy & Economics.

[FR Doc. 2012-19576 Filed 8-9-12; 8:45 am]

BILLING CODE 3290-F2-P